NATIONAL SCIENCE FOUNDATION

Advisory Committee for International Science and Engineering; Notice of Meeting

In accordance with the Federal Advisory Committee Act (Pub. L. 92-463, as amended), the National Science Foundation (NSF) announces the following meeting:

Name and Committee Code: Advisory Committee for International Science and Engineering (25104).

Date and Time: November 13, 2024; 10 a.m.-4 p.m. (Eastern).

Place: NSF, 2415 Eisenhower Avenue, Alexandria, VA 22314 (Virtual).

To attend the virtual meeting, all visitors must register at least 48 hours prior to the meeting at the following Zoom link:

https://nsf.zoomgov.com/webinar/register/WN_hunGxVDLSCms-KxtzwZ0Lw

Webinar ID: 161 334 4374; Passcode: 205871

The final agenda for the meeting will be posted on the OISE Advisory Committee website at: https://www.nsf.gov/od/oise/advisory.jsp.

Type of Meeting: Open.

Contact Persons: Elena Hillenburg, National Science Foundation, 2415 Eisenhower Avenue, Alexandria, VA 22314; Telephone: 703-292-2993.

Summary of Minutes: Minutes and meeting materials will be available on the OISE Advisory Committee website at https://www.nsf.gov/od/oise/advisory.jsp or can be obtained from the contact person listed above.

Purpose of Meeting: To provide advice, recommendations and counsel on major goals and policies pertaining to international science and engineering programs and activities.

Agenda

November 13, 2024; 10 a.m.-4 p.m.

10:00 a.m.-10:15 a.m. Call to Order, Opening Remarks, Introductions

10:15 a.m.-10:45 a.m. OISE Remarks; COI Briefing, OISE Overview

10:45 a.m.-11:30 a.m. Countries & Regions, Programs & Analysis, Multilateral Collaborations

11:30 a.m.-12:00 p.m. Lunch Break

12:00 p.m.-12:15 p.m. Global Centers

12:15 p.m.-12:30 p.m. IMPRESS-U

12:30 p.m.-12:45 p.m. AI-ENGAGE

12:45 p.m.-1:00 p.m. Break/Focus Time

1:00 p.m.-1:45 p.m. Subcommittee Formation

1:45 p.m.-2:00 p.m. Break/Focus Time

2:00 p.m.-2:45 p.m. Preparation for Meeting with NSF Chief Science Officer

2:45 p.m.-3:15 p.m. Meeting with NSF Chief Science Officer

3:15 p.m.-4:00 p.m. Final Discussion, Next AC Scheduling & Planning

4:00 p.m. Adjourn

Dated: October 11, 2024.
Crystal Robinson,
Committee Management Officer.

[FR Doc. 2024-24060 Filed 10-17-24; 8:45 am]

BILLING CODE 7555-01-P